DEPARTMENT OF TRANSPORTATION

Federal Highway Administration

23 CFR Part 771

Federal Transit Administration

49 CFR Part 622

[Docket No. FHWA-2012-2013]

FHWA RIN 2125-AF48

FTA RIN 2132-AB05

Environmental Impact and Related Procedures

Correction

In proposed rule document 2013-4678 beginning on page 13609 in the issue of Thursday, February 28, 2013, make the following correction:

On page 13609, in the first column, the docket number should read as set forth above.

[FR Doc. C1-2013-04678 Filed 3-12-13; 8:45 am]

BILLING CODE 1501-05-D